COMMISSION ON CIVIL RIGHTS

Notice of Public Meeting of the Indiana Advisory Committee to the U.S. Commission on Civil Rights

AGENCY: U.S. Commission on Civil Rights.

ACTION: Announcement of meeting.

SUMMARY: Notice is hereby given, pursuant to the provisions of the rules and regulations of the U.S. Commission on Civil Rights (Commission) and the Federal Advisory Committee Act that the Indiana Advisory Committee (Committee) to the U.S. Commission on Civil Rights will hold planning meetings. The purpose of these meetings is to plan, discuss, and vote, as needed, on matters related to the Committee's civil rights project.

DATES: Wednesday, January 18, 2023, at 3:00 p.m. (ET); Wednesday, February 15, 2023, at 3:00 p.m. (ET); Wednesday, March 15, 2023, at 3:00 p.m. (ET); Wednesday, April 19, 2023, at 3:00 p.m. (ET); Wednesday, May 17, 2023, at 3:00 p.m. (ET).

ADDRESSES: Meetings will be held via Zoom.

Meeting Link (Audio/Visual): https://tinyurl.com/2thaw2fj

Join by Phone (Audio Only): 833-435-1820; Meeting ID: 161 128 3214#

FOR FURTHER INFORMATION CONTACT: Email Ivy Davis, Designated Federal Officer, at ero@usccr.gov, or call Sarah Villanueva, Support Specialist, at 206-800-4892.

SUPPLEMENTARY INFORMATION: Members of the public can listen to these discussions. Committee meetings are available to the public through the above call-in number. Any interested member of the public may call this number and listen to the meeting. An open comment period will be provided to allow members of the public to make a statement as time allows. Callers can expect to incur regular charges for calls they initiate over wireless lines, according to their wireless plan. The Commission will not refund any incurred charges. Callers will incur no charge for calls they initiate over landline connections to the toll-free telephone number. Individuals who are deaf, blind, and hard of hearing may follow the proceedings by first calling the Federal Relay Service at 800-877-8339 and providing the Service with the conference call number and conference ID number.

Members of the public are also entitled to submit written comments; the comments must be received in the regional office within 30 days following the meeting. Written comments may be emailed. The email subject line transmitting the written comments should state: Atten: IN and sent to this email address: ero@usccr.gov. Persons who desire additional information may email Ivy Davis at ero@usccr.gov, or call Sarah Villanueva, at 206-800-4892.

By appointment, records generated from this meeting may be inspected and reproduced at the Eastern Regional Programs as they become available, both before and after the meeting. Please contact staff by email or phone, as noted above. Records of the meeting will be available via www.facadatabase.gov under the Commission on Civil Rights, Indiana Advisory Committee link. Persons interested in the work of this Committee are directed to the Commission's website, http://www.usccr.gov, or may contact the Eastern Regional Office at the above email address or phone number.

Agenda

I. Meeting Announcement & Roll Call

II. Welcome

III. Project Planning

IV. Other Business

V. Next Meeting

VI. Public Comments

VII. Adjourn

Exceptional Circumstance: Pursuant to 41 CFR 102-3.150, the notice for this meeting is given fewer than 15 calendar days prior to the meeting because of the exigent circumstances.

Dated: January 11, 2023.
David Mussatt,
Supervisory Chief, Regional Programs Unit.

[FR Doc. 2023-00797 Filed 1-17-23; 8:45 am]

BILLING CODE P